ENVIRONMENTAL PROTECTION AGENCY

[FRL OP-OFA-121]

Environmental Impact Statements; Notice of Availability

Responsible Agency: Office of Federal Activities, General Information 202-564-5632 or https://www.epa.gov/nepa.

Weekly receipt of Environmental Impact Statements (EIS)

Filed April 1, 2024 10 a.m. EST Through April 8, 2024 10 a.m. EST

Pursuant to 40 CFR 1506.9.

Notice: Section 309(a) of the Clean Air Act requires that EPA make public its comments on EISs issued by other Federal agencies. EPA's comment letters on EISs are available at: https://cdxapps.epa.gov/cdx-enepa-II/public/action/eis/search.

EIS No. 20240063, Final, USFS, CA, Meeks Bay Restoration, Review Period Ends: 05/20/2024, Contact: Ashley Sibr 530-543-2615.

EIS No. 20240064, Final, NMFS, MA, ADOPTION—New England Wind Project, Contact: Karolyn Lock 301-427-8401.

The National Marine Fisheries Service (NMFS) has adopted the Bureau of Ocean Energy Management's Final EIS No. 20240033 filed 02/23/2024 with the Environmental Protection Agency. The NMFS was a cooperating agency on this project. Therefore, republication of the document is not necessary under Section 1506.3(b)(2) of the CEQ regulations.

Dated: April 8, 2024.
Cindy S. Barger,
Director, NEPA Compliance Division, Office of Federal Activities.

[FR Doc. 2024-07777 Filed 4-11-24; 8:45 am]

BILLING CODE 6560-50-P